DEPARTMENT OF COMMERCE

Patent and Trademark Office

Agency Information Collection Activities; Submission to the Office of Management and Budget (OMB) for Review and Approval; Comment Request; Patents External Quality Survey

The United States Patent and Trademark Office (USPTO) will submit the following information collection request to the Office of Management and Budget (OMB) for review and clearance in accordance with the Paperwork Reduction Act of 1995, on or after the date of publication of this notice. The USPTO invites comment on this information collection renewal, which helps the USPTO assess the impact of its information collection requirements and minimize the public's reporting burden. Public comments were previously requested via the Federal Register on March 15, 2022 during a 60-day comment period. This notice allows for an additional 30 days for public comments.

Agency: United States Patent and Trademark Office, Department of Commerce.

Title: Patents External Quality Survey.

OMB Control Number: 0651-0057.

Needs and Uses: The USPTO's Patents External Quality Survey is an instrument designed to measure opinions about the services that USPTO provides its patent application customers. The results from this voluntary survey will assist the USPTO in guiding improvements and enhancements in the future. The USPTO conducts the Patents External Quality Survey as part of its quality improvement efforts under E.O. 14058, Transforming Federal Customer Experience and Service Delivery to Rebuild Trust in Government (Dec. 13, 2021). This survey narrows the focus of customer satisfaction to examination quality and uses a longitudinal, rotating panel design to assess changes in customer perceptions and to identify key areas for examiner training and opportunities for improvement. The USPTO surveys patent agents, attorneys, and other individuals from large domestic corporations (including those with 500+ employees), small and medium-size businesses, independent inventors, and universities, and other non-profit research organizations. This survey does not include foreign entities. The USPTO random sample used in this survey is drawn from the Patent Application and Location Management (PALM) database. The sample population is drawn from the top filing firms and entities that have filed five or more patent applications in a 12-month period. This ongoing survey is generally conducted twice a year. The USPTO uses a rotating panel design where participants will take the survey twice in back-to-back survey periods. Half the participants in each survey period are new, completing the survey for the first time, and half are returning to complete the survey for a second time. This design allows a precise measurement of changes in customer experience over time. The Patents External Quality Survey is primarily a web-based survey, although respondents can also complete the survey via paper and mail if they prefer. The content of both versions is identical. Potential respondents are sent either an email or mailed pre-survey letter, depending on noted preferences for contact. At the beginning of each survey period, respondents are provided instructions for accessing and completing the survey electronically. After a specified response period, a survey packet containing a questionnaire, a separate cover letter prepared by the Deputy Commissioner for Patents, and a postage-paid, preaddressed return envelope are mailed to all sample members that have not yet submitted a response. Sampled members receiving a paper survey can still complete the survey electronically if they prefer. Reminder/thank you postcards and telephone calls are used to encourage responses from sample members.

Form Numbers:

• PTO/2325 (Patents External Quality Survey).

Type of Review: Extension and revision of a currently approved information collection.

Affected Public: Private sector.

Respondent's Obligation: Voluntary.

Frequency: On occasion.

Estimated Number of Annual Respondents: 1,875 respondents.

Estimated Number of Annual Responses: 3,100 responses.

Estimated Time per Response: The USPTO estimates that the responses in this information collection will take the public between 2 minutes (0.03 hours) and 10 minutes (0.17 hours) to complete. This includes the time to gather the necessary information, answer the survey prompts, and submit the completed request to the USPTO.

Estimated Total Annual Respondent Burden Hours: 444 hours.

Estimated Total Annual Respondent Non-Hourly Cost Burden: $0.

This information collection request may be viewed at www.reginfo.gov. Follow the instructions to view Department of Commerce, USPTO information collections currently under review by OMB.

Written comments and recommendations for this information collection should be submitted within 30 days of the publication of this notice on the following website www.reginfo.gov/public/do/PRAMain. Find this particular information collection by selecting “Currently under 30-day Review—Open for Public Comments” or by using the search function and entering either the title of the information collection or the OMB Control Number 0651-0057.

Further information can be obtained by:

• Email: InformationCollection@uspto.gov. Include “0651-0057 information request” in the subject line of the message.

• Mail: Kimberly Hardy, Office of the Chief Administrative Officer, United States Patent and Trademark Office, P.O. Box 1450, Alexandria, VA 22313-1450.

Kimberly Hardy,
Information Collections Officer, Office of the Chief Administrative Officer, United States Patent and Trademark Office.

[FR Doc. 2022-11156 Filed 5-23-22; 8:45 am]

BILLING CODE 3510-16-P